FEDERAL COMMUNICATIONS COMMISSION

[AU Docket No. 13-53; DA 13-1986, DA 13-1978]

Tribal Mobility Fund Phase I Auction (Auction 902); Short-Form Application Filing Window Rescheduled To Open on September 30, 2013; Updated List of Eligible Areas; Petition for Reconsideration of Auction 902 Procedures Public Notice Granted in Part

AGENCY: Federal Communications Commission.

ACTION: Notice.

SUMMARY: In this document, the Wireless Telecommunications and Wireline Competition Bureaus (Bureaus) announce the rescheduling of the filing window for short-form applications and release an updated list of eligible areas for Auction 902.

FOR FURTHER INFORMATION CONTACT: Wireless Telecommunications Bureau, Auctions and Spectrum Access Division: For Tribal Mobility Fund Phase I questions: Patricia Robbins at (202) 418-0660. To request materials in accessible formats (Braille, large print, electronic files, audio format) for people with disabilities, send an email to fcc504@fcc.gov or call the Consumer and Governmental Affairs Bureau at (202) 418-0530 or (202) 418-0432 (TTY).

SUPPLEMENTARY INFORMATION: This is a summary of the Auction 902 Public Notices released on September 25 and 27, 2013. The complete text of the Auction 902 Public Notices, including attachments and related Commission documents, are available for public inspection and copying from 8:00 a.m. to 4:30 p.m. Eastern Time (ET) Monday through Thursday or from 8:00 a.m. to 11:30 a.m. ET on Fridays in the FCC Reference Information Center, 445 12th Street SW., Room CY-A257, Washington, DC 20554. The Auction 902 Public Notices, including attachments and related Commission documents, also may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 13-1986 and DA 13-1978 for the Auction 902 Public Notices. The Auction 902 Public Notices, including attachments and related Commission documents, also are available on the Internet at the Commission's Web site: http://wireless.fcc.gov/auctions/902/, or by using the search function for AU Docket No. 13-53 on the Commission's Electronic Comment Filing System (ECFS) Web page at http://www.fcc.gov/cgb/ecfs/.

Short-Form Application Filing Window Rescheduled To Open on September 30, 2013

1. The Bureaus announce that the filing window for short-form applications to participate in Auction 902, the reverse auction that will award up to $50 million in one-time Tribal Mobility Fund Phase I support, will now open at 12 noon Eastern Time (ET) on September 30, 2013. This filing window was previously scheduled to open on September 25, 2013, but the opening has been delayed to provide time for implementing revisions to the list of census blocks to be eligible for support in this auction. The Auction 902 filing window will remain open on a 24 hour basis from 12 noon ET on September 30, 2013, until 6:00 p.m. ET on October 9, 2013. All other dates and deadlines for Auction 902 remain as previously announced.

2. An online tutorial, which provides information about pre-auction procedures, completing short-form applications, auction conduct, the FCC Auction System, auction rules, and Mobility Fund rules, available at http://wireless.fcc.gov/auctions/902/ will be updated prior to the opening of the short-form application filing window to reflect this new opening date.

List of Eligible Areas Updated

3. The Bureaus release an updated list of eligible areas for Auction 902. The updated list (1) reflects changes to the eligible areas for Auction 902 based on authorizations of support and default determinations from the initial auction of Mobility Fund Phase I support (Auction 901), and (2) incorporates 40 additional census blocks in northwestern New Mexico based on a partial grant of a petition for reconsideration.

4. The updated list of bidding areas is released as Attachment A to the Auction 902 Public Notice released on September 27, 2013. An updated version of the file containing detailed information about the census blocks of all of the bidding areas is available on the Auction 902 Web site at http://wireless.fcc.gov/auctions/902.

Changes Based on Auction 901 Authorizations and Defaults

5. The eligible areas for Tribal Mobility Fund Phase I (Auction 902) have been updated to reflect Auction 901 support authorizations and default determinations. In the list of bidding areas released with the Auction 902 Procedures Public Notice, 78 FR 56875, September 16, 2013, the Bureaus identified with an asterisk the items with one or more census blocks that were the subject of a winning bid in Auction 901 for which the relevant long-form application remained pending. The Bureaus explained that, if any winning bids from Auction 901 covering blocks that would otherwise be eligible for Auction 902 could not be authorized prior to Auction 902, then such eligible blocks would be made available in the auction. The Bureaus explained that they would exclude certain blocks if they were to authorize Auction 901 support in those blocks prior to Auction 902.

6. The Bureaus announce the removal of certain census blocks for which support has been authorized for Auction 901 winning bids, as these areas will not be available for support in Auction 902. Also, for those blocks on which Auction 901 winning bidders have defaulted, the Bureaus removed the asterisks in the list that previously identified the relevant census blocks as having received winning bids in Auction 901, and these areas will be eligible for bidding in Auction 902. Some Auction 901 long-form applications remain pending, and the Bureaus plan to update the list of Auction 902 eligible areas prior to the date of the auction to reflect any further Auction 901 authorizations of support or default determinations.

Addition of Certain Blocks in Northwestern New Mexico

7. The Bureaus grant in part a petition for reconsideration of the Auction 902 Procedures Public Notice and they add certain census blocks in northwestern New Mexico to the list of eligible areas for Auction 902. Specifically, the Bureaus add census blocks that were drive tested, but only to the extent that such blocks are on Tribal lands, are populated, and are not served, as demonstrated in the record, by other carriers.

8. The petitioner sought reconsideration of the Bureaus' determination in the Auction 902 Procedures Public Notice, that the petitioner had submitted drive test data that was not sufficiently verifiable to justify the addition of the census blocks requested. In support of its request that several thousand census blocks in northwestern New Mexico be added to the list of eligible areas for Auction 902, the petition for reconsideration provides additional information regarding the drive tests that the petitioner previously had conducted in support of its comments, including a certified statement from a radiofrequency engineer who conducted the drive tests. The petitioner also supplied two lists of census blocks, one listing census blocks containing roads on which it had conducted tests and the second listing untested areas. Three commenters jointly oppose the petition, contending that the petitioner did not test one network at all, and thus that it is probable that the petitioner's drive test failed to identify the presence of 4G 700 MHz operations in certain census blocks. The petitioner concedes that it did not test this network. The joint filers also argue that the Bureaus should not consider the petitioner's additional information. Another commenter asserts that it provides service to certain census blocks in these areas using the 850 MHz band. This commenter claims that the petitioner did not test the 850 MHz frequency. The petitioner does not respond to this comment.

9. The Bureaus find that it is in the public interest to consider the additional information provided in the petition for reconsideration. The Bureaus note that the petition does not present wholly new evidence or newly discovered evidence, but rather more fully explains the drive tests that the petitioner already conducted. However, in light of the Commission's goal of promoting provision of 3G or better mobile voice and broadband services to Tribal lands that lack such services, the Bureaus believe that consideration of the information in the petition is warranted.

10. The Bureaus grant the petition as to certain census blocks in which the petitioner conducted drive tests that show no 3G or 4G service. The Bureaus are not, however, persuaded by the petitioner's argument that nearby census blocks untested by the petitioner should be presumed to have a similar lack of 3G or better service. Such an assumption is not sufficient to rebut the Mosaik data indicating that 3G or better service is available in those areas. The Bureaus also will not add census blocks where other carriers show that they provide 3G or better mobile voice and broadband service. The petitioner admits that it did not conduct testing of one network, and thus it fails to rebut that carrier's showing regarding its service coverage, which includes maps, an explanation of methodologies for determining coverage, and certifications as to the veracity of the material provided. In addition, the petitioner's earlier uncertified statement that it tested another carrier's 850 MHz frequencies is insufficient to rebut the evidence submitted by that carrier regarding its service coverage, which includes a map, an explanation of methodologies for determining coverage, and certifications as to the veracity of the material provided. Finally, Tribal Mobility Fund Phase I support is only available in populated census blocks on Tribal lands. The Bureaus therefore will not add census blocks that have a population of zero, and they will not add census blocks that are beyond the external borders of the Navajo Nation (and that are not otherwise identified as Tribal lands in the 2010 Census data). The Bureaus also note that some of the census blocks that the petitioner requested were already included in the list of eligible areas. In sum, the Bureaus add 40 census blocks that the petitioner drive tested, that are not served by other carriers, as demonstrated in the record, and that are both located on Tribal lands and populated. A list of those 40 census blocks is provided as Attachment B to the Auction 902 Public Notice released on September 27, 2013.

Eligible Areas Map and GIS Data

11. The interactive map of eligible areas has been updated to reflect these changes to the eligible areas for Auction 902. The link to the interactive map is available on the Auction 902 Web site at http://wireless.fcc.gov/auctions/902/, and the map itself is at http://www.fcc.gov/maps/tribal-mobility-fund-phase-1-eligible-areas. The Bureaus are also making available geographic information system (GIS) data for the eligible areas. The GIS data, which is simply another format of the eligible census block data, is being provided as a downloadable shapefile that is available on the Auction 902 Web site at http://wireless.fcc.gov/auctions/902/.

Federal Communications Commission.
Gary D. Michaels,
Deputy Chief, Auctions and Spectrum Access Division, WTB.

[FR Doc. 2013-24303 Filed 10-2-13; 8:45 am]

BILLING CODE 6712-01-P